DEPARTMENT OF LABOR

Employment and Training Administration

[TA-W-71,477]

SER Enterprise/DHL Logistics, Ogden, UT; Notice of Termination of Investigation

Pursuant to Section 223 of the Trade Act of 1974, as amended, an investigation was initiated in response to a petition filed on June 30, 2009 on behalf of workers of SER Enterprise/DHL Logistics, Ogden, Utah.

Petitions filed by a group of adversely affected workers must be signed by at least three workers. Since the petition did not include signatures by at least three workers, the petition regarding the investigation has been deemed invalid. Consequently, the investigation has been terminated.

Signed at Washington, DC, this 9th day of July 2009.
Linda G. Poole,
Certifying Officer, Division of Trade Adjustment Assistance.

[FR Doc. E9-18061 Filed 7-28-09; 8:45 am]

BILLING CODE 4510-FN-P